DEPARTMENT OF THE INTERIOR

Bureau of Land Management

[UT-030-1020-00]

Notice of Intent To Amend Plan

AGENCY: Bureau of Land Management, Interior

ACTION: Notice of Intent to prepare a plan amendment for the Grand Staircase-Escalante National Monument (GSENM) Management Plan, Escalante Management Framework Plan and Paria Management Framework Plan with an associated Environmental Assessment (EA).

SUMMARY: Pursuant to the Bureau of Land Management (BLM) Planning Regulations (43 CFR 1600) this notice advises the public that the BLM, GSENM is considering amending the GSENM Management Plan, Escalante Management Framework Plan and Paria Management Framework Plan to reallocate forage on the Last Chance grazing allotment and amending the GSENM Management Plan and Escalante Management Framework Plan to reallocate forage on the Big Bowns Bench grazing allotment. The planning area is located in southern Utah; portions of the area are jointly administered by GSENM and Glen Canyon National Recreation Area.

This amendment will be addressed through an EA. This notice initiates a 30-day comment period on the planning criteria and draft plan amendment/EA. If you have information, data, or concerns related to the potential impacts of reallocating forage on the Big Bowns Bench grazing allotment and the Last Chance grazing allotment, have comments on the planning criteria, or suggestions for alternatives, please submit them to the address below.

ADDRESSES: Written comments should be sent to: Monument Manager, Grand Staircase-Escalante National Monument, 190 East Main, Kanab, Utah 84741, (435-644-4300). Planning documents and letters received, including names and street addresses of respondents, will be available for public review at the GSENM Office in Kanab, Utah during regular business hours (8 a.m. to 5 p.m.) Monday through Friday, except holidays. Individual respondents may request confidentiality. If you wish to withhold your name or street address from public review and disclosure under the Freedom of Information Act, you must state this prominently at the beginning of your written comment. Such requests will be honored to the extent allowed by law. All submissions from organizations or businesses, and from individuals identifying themselves as representatives or officials of organizations or businesses, will be made available for public inspection in their entirety. If you are not currently on our mailing list and wish to receive a copy of future planning documents, please send your name and address to the address listed above.

SUPPLEMENTARY INFORMATION: The permittee has voluntarily relinquished all of the existing grazing privileges on the Big Bowns Bench grazing allotment and some of the existing grazing privileges on the Last Chance allotment. The amendment to the GSENM Management Plan, Escalante Management Framework Plan and Paria Management Framework Plan will consider a proposal to re-allocate all or part of the forage on the Big Bowns Bench allotment and the Last Chance allotment for wildlife, watershed conservation, and riparian values. The EA will be prepared by an interdisciplinary team to analyze the impacts of these proposals and alternatives.

The BLM has identified the following planning criteria, which will guide development of the amendments:

1. The plan amendment/EA is initiated in response to the voluntary relinquishment of the sole grazing preference/permit for the Big Bowns Bench allotment and the Last Chance grazing allotment. Analysis and decisions in the plan amendment/EA apply only to those allotments.

2. The plan amendment/EA will be completed in compliance with the Federal Land Policy and Management Act, the National Environmental Policy Act, and all other applicable laws.

3. The plan amendment/EA will be developed using an interdisciplinary approach (e.g., a team approach using a variety of skills and perspectives such as rangeland management specialists, riparian specialists, etc.), with input from interested public, the State of Utah, local governments, and other Federal agencies and entities.

4. Decisions in the plan amendment/EA will provide for the balance of long-term sustainability with short-term uses.

5. This plan amendment/EA will incorporate and comply with the Fundamentals of Rangeland Health and Standards and Guidelines for Grazing Administration.

Elena Daly,
Acting Assistant Director, Renewable Resources and Planning.

[FR Doc. 02-2131 Filed 1-25-02; 8:45 am]

BILLING CODE 4310-84-P